DEPARTMENT OF TRANSPORTATION

Federal Aviation Administration

Notice of Establishment of the Aircraft Repair and Maintenance Advisory Committee

AGENCY: Federal Aviation Administration (FAA), DOT.

ACTION: Notice.

SUMMARY: This notice announces the establishment of the FAA Aircraft Repair and Maintenance Advisory Committee.

FOR FURTHER INFORMATION CONTACT: Ellen Bowie, Federal Aviation Administration (AFS-340), 800 Independence Avenue, SW, Washington, DC 20591; phone (202) 267-9952; fax (202) 367-5115; e-mail: ellen.bowie@faa.gov.

SUPPLEMENTARY INFORMATION:

Background

On July 27, 2000, a notice was published in the Federal Register, 65FR46192, announcing the FAA's intent to establish an Aircraft Repair and Maintenance Advisory Committee. The advisory committee was mandated by the Wendell H. Ford Aviation Investment and Reform Act for the 21st Century, Public Law 106-81, section 734, (AIR-21). This notice announces the establishment of that advisory committee. In accordance with AIR-21, the committee will review issues related to the use and oversight of aircraft and aviation component repair and maintenance facilities located within, or outside of, the United States. The advisory committee will provide advice and recommendations to the Secretary of Transportation, through the FAA Administrator, on the following tasks:

(1) The amount and type of aircraft and aviation component repair work that is being performed by air carriers and aircraft repair facilities located within, and outside of, the United States.

(2) The staffing needs of those facilities, and

(3) Any balance of trade or safety issues associated with that work.

The advisory committee affords the FAA additional opportunities to obtain direct, firsthand information and insight from the represented interests meeting and exchanging ideas with respect to proposed rule and existing rules that should be revised or eliminated. The advisory committee will make recommendations to increase safety through improved oversight of aircraft repair facilities. However, the activities of the committee will not circumvent the normal coordination process or the public rulemaking procedures.

The advisory committee consists of twelve members, nine of whom have been appointed by the Administrator, as follows:

(a) Three representatives of labor organizations representing aviation mechanics

(b) One representative of cargo air carriers

(c) One representative of passenger air carriers

(d) One representative of aircraft repair facilities

(e) One representative of aircraft manufacturers

(f) One representative of on-demand passenger air carriers and corporate aircraft operations; and

(g) One representative of regional passenger air carriers.

The remaining three positions on the advisory committee consist of a representative from the Department of Commerce, designated by the Secretary of Commerce, a representative from the Department of State, designated by the Secretary of State, and one representative from the Federal Aviation Administration, designated by the Administrator.

Meetings of the Aircraft Repair and Maintenance Advisory Committee will be announced in the Federal Register and be open to the public. However meetings of any associated working groups will not be open to the public except to the extent that individuals or organizations with an interest and expertise are selected to participate. No public announcement of working group meetings will be made.

Issued in Washington, DC on March 29, 2001.
Russell S. Unangst, Jr.,
Manager, Resource and Program Management Branch, AFS-310.

[FR Doc. 01-8192 Filed 4-3-01; 8:45 am]

BILLING CODE 4910-13-M